FEDERAL COMMUNICATIONS COMMISSION

47 CFR Part 43

[IB Docket No. 04-112 (Terminated); DA 15-711]

Reporting Requirements for U.S. Providers of International Telecommunications Services

AGENCY: Federal Communications Commission.

ACTION: Final rule; petition for reconsideration.

SUMMARY: In this Order, the Federal Communications Commission (Commission) dismisses the petition for reconsideration (Petition) of the Second Report and Order filed by Voice on the Net Coalition (Petitioner), seeking reconsideration of the Commission's decision to extend international traffic and revenue reporting requirements to entities providing international calling service via Voice over Internet Protocol (VoIP) connected to the public switched telephone network (PSTN), and requiring submarine cable landing licensees to file reports identifying capacity they own or lease on each submarine cable. The Petition relies on facts and arguments that do not meet the requirements of the Commission's rules and the Petition plainly does not warrant consideration by the Commission.

DATES: September 1, 2015.

FOR FURTHER INFORMATION CONTACT: David Krech, Policy Division, International Bureau at 202-418-7443; or Veronica Garcia-Ulloa, Policy Division, International Bureau at 202-418-0481.

SUPPLEMENTARY INFORMATION: This is a summary of the Commission's Order dismissing the petition for reconsideration, DA 15-711, adopted and released on June 17, 2015. Under the Commission's rules, petitions for reconsideration that rely on facts or arguments that have not previously been presented to the Commission will be considered only under certain limited circumstances and may be dismissed by the relevant bureau if they do not meet those circumstances. The Petition relies on facts and arguments that do not meet the requirements of § 1.429(b)(1) through (3) of the Commission's rules. Petitioner previously could have presented these facts and arguments to the Commission in response to the Further Notice of Proposed Rulemaking in this proceeding, but did not present. Accordingly, pursuant to § 1.429(l) of the Commission's rules, the Petition plainly does not warrant consideration by the Commission. The Order on Reconsideration is available for inspection and copying during normal business hours in the FCC Reference Center, 445 12th Street SW., Washington, DC 20554. The document is also available for download over the Internet at http://transition.fcc.gov/Daily_Releases/Daily_Business/2015/db0617/DA-15-711A1.pdf. The Commission will not send a copy of this Order pursuant to the Congressional Review Act, 5 U.S.C. 801(a)(1)(A), because this Order does not have an impact on any rules of particular applicability.

Federal Communications Commission.
Nese Guendelsberger,
Deputy Chief, International Bureau.

[FR Doc. 2015-21091 Filed 8-31-15; 8:45 am]

BILLING CODE 6712-01-P